DEPARTMENT OF TRANSPORTATION

Federal Highway Administration

Notice of Final Federal Agency Actions on Proposed Highway in Washington

AGENCY: Federal Highway Administration (FHWA), DOT.

ACTION: Notice of limitation on claims for judicial review of actions by FHWA.

SUMMARY: This notice announces actions taken by FHWA that are final within the meaning of 23 U.S.C. 139(l)(1). The actions relate to a proposed highway project, the SR 502 Corridor Widening Project, in the State of Washington. Those actions grant approval for the project. The project will widen the existing two-lane roadway to four travel lanes with a median for a 5-mile segment of SR 502 between NE 15th Avenue and NE 102nd Avenue in Clark County, Washington. Specific actions include acquiring additional right-of-way, signalizing three intersections, upgrading one existing signalized intersection, constructing new travel lanes, constructing a median with a median treatment, constructing pedestrian and bicycle facilities, replacing four culverts, removing and placing fill, removing vegetation, and providing stormwater treatment for both new impervious surfaces and some existing surfaces. The project also includes extensive mitigation and restoration actions which are compatible with land use plans.

DATES: By this notice, FHWA is advising the public of final agency actions subject to 23 U.S.C. 139(l)(1). A claim seeking judicial review of the Federal agency actions on the highway project will be barred unless the claim is filed within 180 days of publication of this Federal Register notice. If the Federal law that authorizes judicial review of a claim provides a time period of less than 180 days for filing such claim, then that shorter time period still applies.

FOR FURTHER INFORMATION CONTACT: Yamilee Volcy, Area Engineer, Federal Highway Administration, 711 S. Capitol Way, Suite 501, Olympia, WA 98501; telephone: (360) 753-9552; and e-mail: Yamilee.Volcy@dot.gov. The FHWA Washington Division's Area Engineer's regular office hours are between 6 a.m. and 4 p.m. (Pacific Time). You may also contact Barbara Aberle, Project Environmental Manager, WSDOT Southwest Region Office, 11018 NE 51st Circle, Vancouver, WA 98682; telephone: (360) 905-2186; and e-mail: AberleB@wa.wsdot.gov. The WSDOT Southwest Region Office regular office hours are between 8 a.m. and 5 p.m. (Pacific Time).

SUPPLEMENTARY INFORMATION: Notice is hereby given that FHWA has taken final agency actions by issuing approval for the following highway project: SR 502 Corridor Widening Project. The purpose of the project is to improve safety and mobility along the SR 502 corridor between NE 15th Avenue and NE 102nd Avenue, and to improve regional connectivity between Battle Ground, north Clark County, and Interstate 5 (I-5). The project is located in Clark County, Washington. The actions by FHWA on this project, and the laws under which such actions were taken, are described in the March 2010 Final Environmental Impact Statement (EIS), June 2010 Record of Decision (ROD), and in other documents in the FHWA administrative record for the project. The EIS, ROD, and other documents in the FHWA administrative record are available by contacting FHWA or the Washington State Department of Transportation at the addresses provided above. The EIS and ROD can be viewed and downloaded from the project Web site at http://www.wsdot.wa.gov/Projects/SR502/Widening. Copies are also available for review at the following locations: FHWA, WSDOT Southwest Region Office, Battle Ground Community Library, Fort Vancouver Regional Library, Ridgefield Community Library, Washington State University Vancouver Library, Woodland Community Library, Clark College Library—Cannell Library, Washington State Library, Battle Ground Chamber of Commerce, and Greater Vancouver Chamber of Commerce. This notice applies to all Federal agency decisions on the project as of the issuance date of this notice and all laws under which such actions were taken, including but not limited to:

1. General: National Environmental Policy Act (42 U.S.C. 4321- 43471); Federal-Aid Highway Act (23 U.S.C. 109).

2. Air: Clean Air Act, as amended (42 U.S.C. 7401-7671(q)).

3. Land: Section 4(f) of the Department of Transportation Act of 1966 (49 U.S.C. 303); Farmland Protection Policy Act (7 U.S.C. 4201-4209).

4. Wildlife: Endangered Species Act (16 U.S.C. 1531-1544); Anadromous Fish Conservation Act (16 U.S.C. 757(a)-757(g)); Fish and Wildlife Coordination Act (16 U.S.C. 661-667(d)); Magnuson-Stevenson Fishery Conservation and Management Act of 1976, as amended (16 U.S.C. 1801 et seq.]); Migratory Bird Treaty Act (16 U.S.C. 703-712).

5. Historic and Cultural Resources: Section 106 of the National Historic Preservation Act of 1966, as amended (16 U.S.C. 470(f) et seq.); Archaeological Resources Protection Act of 1977 (16 U.S.C. 470(aa)-11); Archaeological and Historic Preservation Act (16 U.S.C. 469-469(c)); Native American Grave Protection and Repatriation Act (25 U.S.C. 3001-3013).

6. Social and Economic: Civil Rights Act of 1964 (42 U.S.C. 2000(d)-2000(d)(1)); American Indian Religious Freedom Act (42 U.S.C. 1996); the Uniform Relocation Assistance and Real Property Acquisition Policies Act of 1970, as amended (42 U.S.C. 61).

7. Wetlands and Water Resources: Clean Water Act, 33 U.S.C. 1251-1377 (section 404, section 401, section 319); Land and Water Conservation Fund (16 U.S.C. 4601-4604); Safe Drinking Water Act (42 U.S.C. 300(f)-300(j)(6)); TEA-21 Wetlands Mitigation (23 U.S.C. 103(b)(6)(m), 133(b)(11)); Flood Disaster Protection Act (42 U.S.C. 4001-4128).

8. Hazardous Materials: Comprehensive Environmental Response, Compensation, and Liability Act (42 U.S.C. 9601-9675); Superfund Amendments and Reauthorization Act of 1986 (Pub. L. 99-499); Resource Conservation and Recovery Act (42 U.S.C. 6901-6992(k)).

9. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

Final actions taken under: NEPA Final EIS issuance and Record of Decision by FHWA; Biological Opinion issued by the United States Department of Commerce National Oceanic and Atmospheric Administration—National Marine Fisheries Service on January 14, 2010.

FHWA NEPA documents: Final EIS (March 2010) published April 2, 2010 and Record of Decision issued June 24, 2010. These documents are available for viewing on the WSDOT Web site, at the agency offices, or at the libraries and chambers of commerce listed above.

(Catalog of Federal Domestic Assistance Program Number 20.205, Highway Planning and Construction. The regulations implementing Executive Order 12372 regarding intergovernmental consultation on Federal programs and activities apply to this program.)

Authority: 23 U.S.C. 139(l)(1).

Issued on: July 20, 2010.
Daniel M. Mathis,
Division Administrator, Olympia, Washington.

[FR Doc. 2010-18178 Filed 7-23-10; 8:45 am]

BILLING CODE P